DEPARTMENT OF EDUCATION

Extension of the Application Deadline Date for the Fiscal Year 2017; Promise Neighborhoods Program Grant Application

AGENCY: Office of Innovation and Improvement, Department of Education.

ACTION: Notice.

SUMMARY: The Acting Assistant Deputy Secretary for Innovation and Improvement extends, for certain prospective eligible applicants described elsewhere in this notice, the deadline date for transmittal of applications for new awards for fiscal year (FY) 2017 under the Promise Neighborhoods program, Catalog of Federal Domestic Assistance Number 84.215N. The Acting Assistant Deputy Secretary takes this action to allow more time for the preparation and submission of applications by prospective eligible applicants affected by the severe storms and flooding beginning on August 25, 2017, in Texas or Louisiana.

The extension of the application deadline date for this competition is intended to help affected eligible applicants compete fairly with other eligible applicants under this competition.

DATES: Deadline for Transmittal of Applications: October 6, 2017. Deadline for Intergovernmental Review: December 6, 2017.

FOR FURTHER INFORMATION CONTACT: Adrienne Hawkins, U.S. Department of Education, 400 Maryland Avenue SW., Room 4W256, Washington, DC 20202. Telephone: (202) 453-5638. Email address: PromiseNeighborhoods@ed.gov.

If you use a telecommunications device for the deaf (TDD) or a text telephone (TTY), call the Federal Relay Service (FRS), toll free, at 1-800-877-8339.

SUPPLEMENTARY INFORMATION: On July 21, 2017, we published in the Federal Register (82 FR 33881) a notice inviting applications for new awards for FY 2017 for the Promise Neighborhoods competition (NIA). The application deadline in the NIA was September 5, 2017. We are extending this competition for applicants in Texas or Louisiana in order to allow applicants more time to prepare and submit their applications.

Eligibility: The extension of the application deadline date in this notice applies to eligible applicants under the Promise Neighborhoods program that are located in Texas or Louisiana.

In accordance with the NIA, an eligible applicant for the Promise Neighborhoods program:

(1) Is representative of the geographic area proposed to be served;

(2) Is one of the following:

(a) A nonprofit organization that meets the definition of a nonprofit under 34 CFR 77.1(c), which may include a faith-based nonprofit organization.

(b) An institution of higher education as defined by section 101(a) of the Higher Education Act of 1965, as amended.

(c) An Indian tribe (as defined in the NIA);

(3) Currently provides at least one of the solutions from the applicant's proposed continuum of solutions in the geographic area proposed to be served; and

(4) Operates or proposes to work with and involve in carrying out its proposed project, in coordination with the school's local educational agency (LEA), at least one public elementary or secondary school that is located within the identified geographic area that the grant will serve.

In the case of an eligible applicant that is a partnership, the extension of the application deadline date applies if any of the entities required to be part of the partnership (i.e., a nonprofit organization, an LEA, or a consortium of schools) are located in Texas or Louisiana.

An eligible applicant submitting an application under the extended deadline must provide a certification in its application that it meets the criteria for doing so and be prepared to provide appropriate supporting documentation, if requested. If such an eligible applicant is submitting its application electronically, the submission of the application serves as the eligible applicant's attestation that it meets the criteria for submitting an application by the extended deadline.

Note: All information in the NIA published on July 21, 2017 (82 FR 33881) for this competition remains the same, except for the deadline date.

Program Authority: The Promise Neighborhoods program is authorized under section 4624 of the Elementary and Secondary Education Act of 1965 (ESEA), as amended by the Every Student Succeeds Act (ESSA) (20 U.S.C. 7273-7274).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: September 15, 2017.
Margo Anderson,
Acting Assistant Deputy Secretary for Innovation and Improvement.

[FR Doc. 2017-20070 Filed 9-19-17; 8:45 am]

BILLING CODE 4000-01-P